DEPARTMENT OF TRANSPORTATION

Office of the Secretary, Office of Aviation Analysis; Procedures and Evidence Rules for Air Carrier Authority Notice of Request for Renewal of a Previously Approved Collection

AGENCY: Office of the Secretary, DOT.

ACTION: Notice.

SUMMARY: In compliance with the Paperwork Reduction Act of 1995 (44 U.S.C. 3501 et seq.), this notice announces that the Information Collection Request (ICR) abstracted below will be forwarded to the Office of Management and Budget (OMB) for renewal.

DATES: Comments on this notice must be received on or before July 14, 2000.

ADDRESSES: Comments should be directed to the Air Carrier Fitness Division, (X-56), Office of Aviation Analysis, Office of the Secretary, U.S. Department of Transportation, 400 Seventh Street, SW., Washington, DC 20590.

FOR FURTHER INFORMATION CONTACT: Delores King, Air Carrier Fitness Division (X-56), Office of Aviation Analysis, Office of the Secretary, U.S. Department of Transportation, 400 Seventh Street, SW., Washington, DC 20590, (202) 366-2343.

SUPPLEMENTARY INFORMATION: Title: Procedures and Evidence Rules for Air Carrier Authority Applications:

14 CFR Part 201—Air Carrier Authority under Subtitle VII of title 49 of the United States Code—(Amended);

14 CFR Part 204—Data to Support Fitness Determinations;

14 CFR Part 291—Cargo Operations in Interstate Air Transportation.

OMB Control Number: 2106-0023.

Type of Request: Renewal without change, of previously approved collection.

Abstract: In order to determine the fitness of persons seeking authority to engage in air transportation, the Department collects information from them about their ownership, citizenship, managerial competence, operating proposal, financial condition, and compliance history. The specific information to be filed by respondents is set forth in 14 CFR Parts 201 and 204.

Respondents: Persons seeking initial or continuing authority to engage in air transportation of persons, property, and/or mail.

Estimated Number of Respondents: 139.

Average Annual Burden per Respondent: 35.25 hours.

Estimated Total Burden on Respondents: 4,900 hours.

This information collection is available for inspection at the Air Carrier Fitness Division (X-56), Office of Aviation Analysis, DOT, at the address above. Copies of 14 CFR Parts 201 and 204 can be obtained from Ms. Delores King at the address and telephone number shown above.

Comments are invited on: (a) Whether the proposed collection of information is necessary for the proper performance of the functions of the Department, including whether the information will have practical utility; (b) the accuracy of the Department's estimate of the burden of the proposed information collection, (c) ways to enhance the quality, utility and clarity of the information to be collected; and (d) ways to minimize the burden of the collection of information on respondents, including the use of automated collection techniques or other forms of information technology.

All responses to this notice will be summarized and included in the request for OMB approval. All comments will also become a matter of public record.

Issued in Washington, DC, on May 5, 2000.
Randall D. Bennett,
Acting Director, Office of Aviation Analysis.

[FR Doc. 00-12146 Filed 5-12-00; 8:45 am]

BILLING CODE 4910-62-P